DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action by Trade Adjustment Assistance for Period May 21, 2004 Through June 18, 2004
Firm name | Address | Date petition accepted | Product
Omega Design Corporation | 211 Phillips Road, Exton, PA 19341 | 26-May-04 | Packaging equipment, shrink wrap and bottle unscramblers.
Anderson Wood Products Company | 1381 Beech Street, Louisville, KY 40211 | 28-May-04 | Wood handrails and wooden parts for beds, molding and drawers.
Bel-Cro Machine Shop, Inc | 2142 Denly Road, Houman, LA 70363 | 28-May-04 | Parts of valves.
Whitaker Furniture Company, Inc | 409 Remington Street, Searcy, AR 72145 | 28-May-04 | Wooden casual and game furniture.
Clover Wire Forming Co., Inc | 1021 Saw Mill River Road, Yonkers, NY 10710 | 4-Jun-04 | Wire formed products including garden hooks, display products, and paper guides for computer printers.
Auburn Vacuum Forming Co., Inc | 40 York Street, Auburn, NY 13021 | 14-Jun-04 | Vacuum formed plastic products including material handling trays, machine guards and covers.
Dacon Manufacturing Co., Inc | 1651 99th Lane, NE., Blaine, MN 55449 | 14-Jun-04 | Metal heat dissipaters for semiconductors.
Orb Enterprises, Inc | 4724 S. Christiana, Chicago, IL 60632 | 14-Jun-04 | Components of cash and key registers.
Accu-Router, Inc | 634 Mtn. View Industrial Dr., Morrison, TN 37537 | 17-Jun-04 | Woodworking machines for wooden furniture.
Lakeview Industries, Inc | 1225 Lakeview Drive, Chaska, MN 55318 | 17-Jun-04 | Seals and gaskets, extruded, molded and die cut of soft rubber for automotive applications,and custom molded and extruded rubber and silicone seals and vibration mounts.
Schoggi, Inc. d.b.a. West Paw Design | 32050 East Frontage Road, Bozeman, MT 59715 | 17-Jun-04 | Pet beds.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice. The Catalog of Federal Domestic Assistance official program number and title of the program under which these petitions are submitted is 11.313, Trade Adjustment Assistance.

Dated: July 2, 2004.
Anthony J. Meyer,
Senior Program Analyst, Office of Strategic Initiatives.

[FR Doc. 04-15665 Filed 7-9-04; 8:45 am]

BILLING CODE 3510-24-P